DEPARTMENT OF TRANSPORTATION

Federal Aviation Administration

14 CFR Part 39

[Docket No. FAA-2010-0512; Directorate Identifier 2010-NE-21-AD; Amendment 39-16332; AD 2010-13-01]

RIN 2120-AA64

Airworthiness Directives; Microturbo Saphir 20 Model 095 Auxiliary Power Units (APUs)

AGENCY: Federal Aviation Administration (FAA), DOT.

ACTION: Final rule; request for comments.

SUMMARY: We are adopting a new airworthiness directive (AD) for the products listed above. This AD results from mandatory continuing airworthiness information (MCAI) issued by the European Aviation Safety Agency (EASA) to identify and correct an unsafe condition on an aviation product. The MCAI describes the unsafe condition as:

The turbine wheel, part number (P/N) 095-01-015-03, of the SAPHIR 20 Model 095 APU is a life-limited part. Microturbo had determined through “fleet leader” testing and inspection that the published life limit of this turbine wheel should be reduced to 9,000 cycles. Use of the turbine wheel beyond 9,000 cycles could lead to the release of high energy debris that could jeopardize aircraft safety.

For the reasons described above, EASA AD 2008-0084 required the implementation of the new life limit on the affected parts and the replacement parts that had exceeded the new life limit.

Microturbo has now determined that the life limit of the turbine wheel should be further reduced to 4,225 cycles. Use of the turbine wheel beyond 4,225 cycles could lead to the release of high energy debris that could jeopardize aircraft safety.

We are issuing this AD to prevent an uncontained burst of the APU turbine that could liberate high-energy fragments resulting in injury and damage to the aircraft.

DATES: This AD becomes effective July 16, 2010.

We must receive comments on this AD by July 26, 2010.

ADDRESSES: You may send comments by any of the following methods:

• Federal eRulemaking Portal: Go to http://www.regulations.gov and follow the instructions for sending your comments electronically.

• Mail: U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is the same as the Mail address provided in the ADDRESSES section. Comments will be available in the AD docket shortly after receipt.

FOR FURTHER INFORMATION CONTACT: Michael Schwetz, Aerospace Engineer, Boston Aircraft Certification Office, FAA, Engine and Propeller Directorate, 12 New England Executive Park, Burlington, MA 01803; e-mail: michaelschwetz@faa.gov; telephone (781) 238-7761; fax (781) 238-7170.

SUPPLEMENTARY INFORMATION:

Discussion

EASA, which is the Technical Agent for the Member States of the European Community, has issued AD 2010-0079, dated April 26, 2010 (referred to after this as “the MCAI”), to correct an unsafe condition for the specified products. The MCAI states:

The turbine wheel, part number (P/N) 095-01-015-03, of the SAPHIR 20 Model 095 APU is a life-limited part. Microturbo had determined through “fleet leader” testing and inspection that the published life limit of this turbine wheel should be reduced to 9,000 cycles. Use of the turbine wheel beyond 9,000 cycles could lead to the release of high energy debris that could jeopardize aircraft safety.

For the reasons described above, EASA AD 2008-0084 required the implementation of the new life limit on the affected parts and the replacement parts that had exceeded the new life limit.

Microturbo has now determined that the life limit of the turbine wheel should be further reduced to 4,225 cycles. Use of the turbine wheel beyond 4,225 cycles could lead to the release of high energy debris that could jeopardize aircraft safety.

For the reasons described above, this AD, which supersedes EASA AD 2008-0084, requires the implementation of the new life limit on the affected parts and the replacement of parts that had exceeded this new limit. This AD also extends the scope to include the P/N 095-01-015-20 turbine wheel, which is physically identical to the P/N 095-01-015-03 turbine wheel but is manufactured using a revised process (approved by EASA).

You may obtain further information by examining the MCAI in the AD docket.

Relevant Service Information

Microturbo has issued Service Bulletin 095-49-17, dated March 16, 2010. The actions described in this service information are intended to correct the unsafe condition identified in the MCAI.

FAA's Determination and Requirements of This AD

This product has been approved by the aviation authority of EASA and is approved for operation in the United States. Pursuant to our bilateral agreement with France, they have notified us of the unsafe condition described in the MCAI and service information referenced above. We are issuing this AD because we evaluated all information provided by EASA and determined the unsafe condition exists and is likely to exist or develop on other products of the same type design. This AD requires removal of turbine wheels P/N 095-01-015-03 or P/N 095-01-015-20, before exceeding the new reduced life limit of 4,225 cycles-in-service, and replacement with a new or serviceable part.

FAA's Determination of the Effective Date

Since no domestic operators use this product, notice and opportunity for public comment before issuing this AD are unnecessary. Therefore, we are adopting this regulation immediately.

Comments Invited

This AD is a final rule that involves requirements affecting flight safety, and we did not precede it by notice and opportunity for public comment. We invite you to send any written relevant data, views, or arguments about this AD. Send your comments to an address listed under the ADDRESSES section. Include “Docket No. FAA-2010-0512; Directorate Identifier 2010-NE-21-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact with FAA personnel concerning this AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-13-01 Microturbo: Amendment 39-16332.; Docket No. FAA-2010-0512; Directorate Identifier 2010-NE-21-AD.

Effective Date

(a) This airworthiness directive (AD) becomes effective July 16, 2010.

Affected ADs

(b) None.

Applicability

(c) This AD applies to Microturbo Saphir 20 model 095 auxiliary power units (APUs). These APUs are installed on, but not limited to, Eurocopter EC225 and AS332 helicopters.

Reason

(d) This AD results from mandatory continuing airworthiness information (MCAI) issued by the European Aviation Safety Agency (EASA) to identify and correct an unsafe condition on an aviation product. EASA AD 2010-0079 states:

The turbine wheel, part number (P/N) 095-01-015-03, of the SAPHIR 20 Model 095 APU is a life-limited part. Microturbo had determined through “fleet leader” testing and inspection that the published life limit of this turbine wheel should be reduced to 9,000 cycles. Use of the turbine wheel beyond 9,000 cycles could lead to the release of high energy debris that could jeopardize aircraft safety.

For the reasons described above, EASA AD 2008-0084 required the implementation of the new life limit on the affected parts and the replacement parts that had exceeded the new life limit.

Microturbo has now determined that the life limit of the turbine wheel should be further reduced to 4,225 cycles. Use of the turbine wheel beyond 4,225 cycles could lead to the release of high energy debris that could jeopardize aircraft safety.

We are issuing this AD to prevent an uncontained burst of the APU turbine that could liberate high-energy fragments resulting in injury and damage to the aircraft.

Actions and Compliance

(e) Unless already done, do the following actions:

(1) Remove turbine wheels P/N 095-01-015-03 or P/N 095-01-015-20, before exceeding the new reduced life limit of 4,225 cycles-in-service, and replace it with a new or serviceable part.

(2) Thereafter, remove turbine wheels P/N 095-01-015-03 or P/N 095-01-015-20, before exceeding the new reduced life limit of 4,225 cycles-in-service, and replace it with a new or serviceable part.

FAA AD Differences

(f) The initial compliance time for the EASA AD is within one month after the effective date of the AD or upon accumulating 4,225 cycles-in-service, whichever occurs later. The initial compliance time for this AD is before exceeding the new reduced life limit of 4,225 cycles-in-service.

Alternative Methods of Compliance

(g) The Manager, Boston Aircraft Certification Office, FAA, has the authority to approve AMOCs for this AD, if requested using the procedures found in 14 CFR 39.19.

Related Information

(h) Refer to EASA AD 2010-0079, dated April 26, 2010, and Microturbo Service Bulletin No. 095-49-17, dated March 16, 2010, for related information. Contact Microturbo, Technical Publications Department, 8 Chemin du pont de Rupe, BP 62089, 31019 Toulouse Cedex, France; telephone 33 0 5 61 37 55 00; fax 33 0 5 61 70 74 45 for a copy of this service bulletin.

(i) Contact Michael Schwetz, Aerospace Engineer, Boston Aircraft Certification Office, FAA, Engine and Propeller Directorate, 12 New England Executive Park, Burlington, MA 01803; e-mail: michaelschwetz@faa.gov; telephone (781) 238-7761; fax (781) 238- 7170, for more information about this AD.

Material Incorporated by Reference

(j) None.

Issued in Burlington, Massachusetts, on June 4, 2010.
Peter A. White,
Assistant Manager, Engine and Propeller Directorate, Aircraft Certification Service.

[FR Doc. 2010-13928 Filed 6-10-10; 8:45 am]

BILLING CODE 4910-13-P